DEPARTMENT OF TRANSPORTATION

Federal Aviation Administration

14 CFR Part 71

[Docket No. FAA-2020-0004; Airspace Docket No. 19-AGL-16]

RIN 2120-AA66

Amendment, Establishment, and Revocation of Multiple Air Traffic Service (ATS) Routes in the Vicinity of Waukon, IA

AGENCY: Federal Aviation Administration (FAA), DOT.

ACTION: Final rule.

SUMMARY: This action amends VHF Omnidirectional Range (VOR) Federal airways V-2, V-77, V-138, V-218, V-246 and V-398; amends low altitude Area Navigation (RNAV) route T-251; establishes low altitude RNAV route T-348, and removes VOR Federal airway V-411 in the vicinity of Waukon, IA. The Air Traffic Service (ATS) route modifications, establishment, and removal are necessary due to the planned decommissioning of the VOR portion of the Waukon, IA, VOR/Distance Measuring Equipment (VOR/DME) navigation aid (NAVAID). The Waukon VOR provides navigation guidance for portions of the affected ATS routes and is being decommissioned as part of the FAA's VOR Minimum Operational Network (MON) program.

DATES: Effective date 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

History

The FAA published a notice of proposed rulemaking (NPRM) for Docket No. FAA-2020-0004 in the Federal Register (85 FR 4245; January 24, 2020), amending VOR Federal airways V-2, V-77, V-138, V-218, V-246 and V-398; establishing low altitude RNAV routes T-348 and T-389; and removing VOR Federal airway V-411 in the vicinity of Waukon, IA. The proposed actions were due to the planned decommissioning of the VOR portion of the Waukon, IA, VOR/DME. Interested parties were invited to participate in this rulemaking effort by submitting written comments on the proposal. No comments were received.

VOR Federal airways are published in paragraph 6010(a) and low altitude RNAV routes are published in paragraph 6011 of FAA Order 7400.11D dated August 8, 2019, and effective September 15, 2019, which is incorporated by reference in 14 CFR 71.1. The VOR Federal airways listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the Proposal

In the NPRM, the FAA proposed to establish low altitude RNAV route T-389 extending from the Farmington, MO, VOR/Tactical Air Navigation (VORTAC) NAVAID to the KOETZ, WI, waypoint. After the NPRM published, the FAA discovered that the first three T-389 route points overlapped the same three route points in an existing low altitude RNAV route, T-251; thus creating a situation where the proposed T-389 and existing T-251 would overlap between the Farmington, MO, VORTAC and the RIVRS, IL, waypoint (intersection (INT) in the T-251 description). The proposed T-389 would then extended northward from the RIVRS, IL, waypoint to the KOETZ, WI, waypoint.

The FAA supports establishing a low altitude RNAV T-route between the Farmington, MO, VORTAC and the KOETZ, WI, waypoint as proposed in the NPRM. However, to avoid having two T-routes overlap providing redundant RNAV routing over the same area and to preserve a T-route number for future use elsewhere in the NAS, the FAA has determined it better to amend the existing T-251 by extending it from the RIVRS, IL, INT over the same routing proposed in the NPRM to the KOETZ waypoint instead of establishing T-389 to accomplish the same. By amending T-251, the FAA saves the T-389 route number for future use.

As such, this rule is amending T-251 by extending the existing T-route from the RIVRS, IL, INT northward to the KOETZ, WI, waypoint over the same route points proposed for T-389 in the NPRM, and not using the T-389 route number at this time. Additionally, this rule amends the RIVRS, IL, INT route point in the T-251 description to reflect it as a waypoint instead of an intersection.

The Rule

The FAA is amending Title 14 Code of Federal Regulations (14 CFR) part 71 by modifying VOR Federal airways V-2, V-77, V-138, V-218, V-246, and V-398; modifying low altitude RNAV route T-251; establishing low altitude RNAV route T-348; and removing VOR Federal airway V-411. The planned decommissioning of the VOR portion of the Waukon, IA, VOR/DME has made this action necessary.

The VOR Federal airway changes are outlined below.

V-2: V-2 extends between the Seattle, WA, VORTAC and the intersection of the Nodine, MN, VORTAC 122° and Waukon, IA, VOR/DME 053° radials (WEBYE fix); and between the Buffalo, NY, VOR/DME and the Gardner, MA, VOR/DME. The airway segment between the Nodine, MN, VORTAC and the intersection of the Nodine, MN, VORTAC 122° and Waukon, IA, VOR/DME 053° radials (WEBYE fix) is removed. The unaffected portions of the existing airway remain as charted.

V-77: V-77 extends between the San Angelo, TX, VORTAC and the Waukon, IA, VOR/DME. The airway segment between the Waterloo, IA, VOR/DME and the Waukon, IA, VOR/DME is removed. The unaffected portions of the existing airway remain as charted.

V-138: V-138 extends between the Riverton, WY, VOR/DME and the Sidney, NE, VOR/DME; and between the Grand Island, NE, VOR/DME and the Waukon, IA, VOR/DME. The airway segment between the Mason City, IA, VOR/DME and the Waukon, IA, VOR/DME is removed. Additionally, the two “1,200 feet AGL” references listed between the Grand Island, NE, VOR/DME and the Lincoln, NE, VORTAC are removed. The unaffected portions of the existing airway remain as charted.

V-218: V-218 extends between the International Falls, MN, VOR/DME and the Waukon, IA, VOR/DME. The airway segment between the Gopher, MN, VORTAC and the Waukon, IA, VOR/DME is removed. The unaffected portions of the existing airway remain as charted.

V-246: V-246 extends between the Janesville, WI, VOR/DME and the intersection of the Nodine, MN, VORTAC 055° and Eau Claire, WI, VORTAC 134° radials (MILTO fix). The airway segment between the Dubuque, IA, VOR/DME and the intersection of the Nodine, MN, VORTAC 055° and Eau Claire, WI, VORTAC 134° radials (MILTO fix) is removed. The unaffected portions of the existing airway remain as charted.

V-398: V-398 extends between the Aberdeen, SD, VOR/DME and the Lone Rock, WI, VOR/DME. The airway segment between the Rochester, MN, VOR/DME and the Lone Rock, WI, VOR/DME is removed. The unaffected portions of the existing airway remain as charted.

V-411: V-411 extends between the Lone Rock, WI, VOR/DME and the Farmington, MN, VORTAC. The airway is removed in its entirety.

The low altitude RNAV route change and establishment are outlined below.

T-251: T-251 is amended to extend it between the RIVRS, IL, intersection and the KOETZ, WI, waypoint, over the same route points proposed as T-389 in the NPRM. Additionally, the RIVRS, IL, intersection route point is amended to reflect it as a waypoint. This T-route amendment is accomplished instead of establishing T-389 as proposed in the NPRM.

T-348: T-348 is established between the BRAIN, MN, waypoint and the Lungs, WI, waypoint.

All radials in the VOR Federal airway descriptions below are unchanged and stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-2, V-77, V-138, V-218, V-246 and V-398; amending low altitude Area Navigation (RNAV) route T-251; establishing low altitude RNAV route T-348, and removing VOR Federal airway V-411 due to the planned decommissioning of the VOR portion of the Waukon, IA, VOR/DME NAVAID qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles 55 MSL, Dickinson, ND; 10 miles, 60 miles 38 MSL, Bismarck, ND; 14 miles, 62 miles 34 MSL, Jamestown, ND; Fargo, ND; Alexandria, MN; Gopher, MN; to Nodine, MN. From Buffalo, NY; Rochester, NY; Syracuse, NY; Utica, NY; Albany, NY; INT Albany 084° and Gardner, MA, 284° radials; to Gardner.

* * * * *

V-77 [Amended]

From San Angelo, TX; Abilene, TX; INT Abilene 047° and Wichita Falls, TX, 204° radials; Wichita Falls; INT Wichita Falls 028° and Will Rogers, OK, 216° radials; Will Rogers; INT Will Rogers 002° and Pioneer, OK, 201° radials; Pioneer; Wichita, KS; INT Wichita 042° and Topeka, KS, 236° radials; Topeka; St Joseph, MO; Lamoni, IA; Des Moines, IA; Newton, IA; to Waterloo, IA.

* * * * *

V-138 [Amended]

From Riverton, WY; 35 miles, 80 miles 107 MSL, 16 miles 85 MSL, Medicine Bow, WY; Cheyenne, WY; to Sidney, NE. From Grand Island, NE; INT of Grand Island 099° and Lincoln, NE, 267° radials; Lincoln; Omaha, IA; INT Omaha 032° and Fort Dodge, IA, 222° radials; Fort Dodge; to Mason City, IA.

* * * * *

V-218 [Amended]

From International Falls, MN; Grand Rapids, MN; to Gopher, MN.

* * * * *

V-246 [Amended]

From Janesville, WI; to Dubuque, IA.

* * * * *

V-398 [Amended]

From Aberdeen, SD, via INT Aberdeen 101° and Watertown, SD, 312° radials; Watertown; Redwood Falls, MN; to Rochester, MN.

* * * * *

V-411 [Removed]

* * * * *

6011. United States Area Navigation Routes.

* * * * *

T-251 Farmington, MO (FAM) to Koetz, WI [Amended]
Farmington, MO (FAM) | VORTAC | (Lat. 37°40′24.46″ N, long. 090°14′02.61″ W)
Foristell, MO (FTZ) | VORTAC | (Lat. 38°41′39.60″ N, long. 090°58′16.57″ W)
RIVRS, IL | WP | (Lat. 39°25′21.41″ N, long. 090°55′56.70″ W)
KAYUU, MO | WP | (Lat. 40°19′05.81″ N, long. 091°41′36.59″ W)
MERKR, IA | WP | (Lat. 40°49′16.02″ N, long. 092°08′26.88″ W)
AGENS, IA | FIX | (Lat. 41°01′43.78″ N, long. 092°20′50.25″ W)
PICRA, IA | WP | (Lat. 41°35′00.72″ N, long. 092°32′34.29″ W)
HAVOS, IA | WP | (Lat. 42°04′16.32″ N, long. 092°28′29.38″ W)
Waterloo, IA (ALO) | VOR/DME | (Lat. 42°33′23.39″ N, long. 092°23′56.13″ W)
ZEZDU, IA | WP | (Lat. 42°49′29.02″ N, long. 092°04′58.05″ W)
FALAR, MN | WP | (Lat. 43°34′26.04″ N, long. 091°30′18.32″ W)
KOETZ, WI | WP | (Lat. 44°13′15.00″ N, long. 091°28′14.00″ W)
* * * * * * *
T-348 Brain, MN to Lungs, WI [New]
BRAIN, MN | WP | (Lat. 43°39′00.24″ N, long. 096°26′12.58″ W)
GRSIS, MN | WP | (Lat. 43°38′45.54″ N, long. 094°25′21.17″ W)
FOOLS, MN | WP | (Lat. 43°46′58.20″ N, long. 092°35′44.93″ W)
GABDE, MN | WP | (Lat. 43°38′50.04″ N, long. 092°18′26.46″ W)
KRRTR, IA | WP | (Lat. 43°16′18.12″ N, long. 091°22′30.62″ W)
Madison, WI (MSN) | VORTAC | (Lat. 43°08′41.41″ N, long. 089°20′22.91″ W)
LUNGS, WI | WP | (Lat. 43°02′43.66″ N, long. 088°56′54.86″ W)

* * * * *

Issued in Washington, DC, on August 12, 2020.
Scott M. Rosenbloom,
Acting Manager, Rules and Regulations Group.

[FR Doc. 2020-17982 Filed 8-17-20; 8:45 am]

BILLING CODE 4910-13-P